DEPARTMENT OF THE INTERIOR

Fish and Wildlife Service

[FWS-R8-ES-2015-N147; FXES11130000-156-FF08E00000]

Endangered and Threatened Wildlife and Plants; Draft Recovery Plan for the Laguna Mountains Skipper

AGENCY: Fish and Wildlife Service, Interior.

ACTION: Notice of document availability.

SUMMARY: We, the U.S. Fish and Wildlife Service, announce the availability of the Draft Recovery Plan for Laguna Mountains skipper, a small butterfly, for public review and comment. The draft recovery plan includes recovery objectives and criteria, and specific actions necessary to achieve recovery and removal of the species from the Federal List of Endangered and Threatened Wildlife. We request review and comment on this draft recovery plan from local, State, and Federal agencies, and the public.

DATES: We must receive any comments on the draft recovery plan on or before March 28, 2016.

ADDRESSES: You may obtain a copy of the draft recovery plan from our Web site at http://www.fws.gov/endangered/species/recovery-plans.html. Alternatively, you may contact the Carlsbad Fish and Wildlife Office, U.S. Fish and Wildlife Service, 2177 Salk Avenue, Suite 250, Carlsbad, CA 92008 (telephone 760-431-9440). If you wish to comment on the draft recovery plan, you may submit your comments in writing by any one of the following methods:

• U.S. mail: Field Supervisor, at the above address;

• Hand-delivery: Carlsbad Fish and Wildlife Office, at the above address; or

• Email: fw8cfwocomments@fws.gov.

For additional information about submitting comments, see the “Request for Public Comments” section below.

FOR FURTHER INFORMATION CONTACT: Mendel Stewart, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

The Laguna Mountains skipper is a small butterfly that inhabits large wet mountain meadows and associated forest openings at elevations above 3,900 feet (ft) (1,189 meters (m)). We listed the Laguna Mountains skipper (Pyrgus ruralis lagunae) as endangered throughout its entire range in 1997 (January 16, 1997; 62 FR 2313). At the time of listing, the subspecies occurred in the Laguna Mountains and on Palomar Mountain in San Diego County, California, but it is currently restricted to Palomar Mountain, where there are four extant occurrences. Adult occupancy is also associated with surface water such as streams and wet seeps, and population growth appears positively correlated with rainfall levels. Horkelia clevelandii (Cleveland's horkelia) is Laguna Mountains skipper's primary host plant.

The primary threats to survival of the Laguna Mountains skipper are habitat modification through poor management of cattle grazing and succession, climate change, incidental ingestion by cattle, and small isolated populations susceptible to events such as drought and fire.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The ultimate goal of this recovery plan is to recover the Laguna Mountains skipper so that it can be delisted. The interim goal is to recover the species to the point that it can be downlisted from endangered to threatened status. To meet the recovery goal, the following objectives have been identified:

1. Validate the population ecology model to advance our ability to understand and monitor the status of Laguna Mountains skipper and inform management practices;

2. Increase abundance and ensure long-term persistence of Laguna Mountains skipper through reduction and management of threats to the subspecies and its habitat throughout its current range; and

3. Ensure population redundancy of Laguna Mountains skipper through documentation and reestablishment (where needed) of multiple resilient and genetically representative populations within its historical range.

As the Laguna Mountains skipper meets recovery criteria, we will review its status and consider it for downlisting or removal from the Federal List of Endangered and Threatened Wildlife.

Request for Public Comments

We request written comments on the draft recovery plan described in this notice. All comments received by the date specified in the DATES section will be considered in development of a final recovery plan for Laguna Mountains skipper. You may submit written comments and information by mail or in person to the Carlsbad Fish and Wildlife Office at the address in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Authority

We developed our recovery plan under the authority of section 4(f) of the Act, 16 U.S.C. 1533(f). We publish this notice under section 4(f) of the Endangered Species Act of 1973, as amended (16 U.S.C. 1531 et seq.).

Dated: January 14, 2016.
Alexandra Pitts,
Acting Regional Director, Pacific Southwest Region, Sacramento, California.

[FR Doc. 2016-01131 Filed 1-25-16; 8:45 am]

BILLING CODE 4310-55-P